DEPARTMENT OF THE INTERIOR

Fish and Wildlife Service

[FWS-R5-ES-2019-N088; FXES11130500000-190-FF05E00000]

Endangered and Threatened Wildlife and Plants; Initiation of 5-Year Reviews of Seven Northeastern Species

AGENCY: Fish and Wildlife Service, Interior.

ACTION: Notice of initiation of reviews; request for information.

SUMMARY: We, the U.S. Fish and Wildlife Service (Service), are initiating 5-year reviews under the Endangered Species Act, as amended (ESA), for seven northeastern species. A 5-year review is based on the best scientific and commercial data available at the time of the review. We are requesting submission of any such information that has become available since the previous 5-year review for each species.

DATES: To ensure consideration, please submit your written information by October 4, 2019. However, we will continue to accept new information about any listed species at any time.

ADDRESSES: For instructions on how and where to submit information, see Request for New Information and Table 2—Contacts under SUPPLEMENTARY INFORMATION.

FOR FURTHER INFORMATION CONTACT: For information regarding a particular species, contact the appropriate person or office listed in Table 2—Contacts in SUPPLEMENTARY INFORMATION. For general information, contact Martin Miller, by U.S. mail at U.S. Fish and Wildlife Service, 300 Westgate Center Drive, Hadley, MA 01035; by telephone at 413-253-8615; or by electronic mail at martin_miller@fws.gov.

SUPPLEMENTARY INFORMATION: We, the Service, are initiating 5-year reviews under the ESA (16 U.S.C. 1531 et seq.) for seven northeastern species: The endangered Appalachian monkeyface (pearlymussel), Hay's spring amphipod, Atlantic salmon (Gulf of Maine Distinct Population Segment), and diamond darter and the threatened Virginia round-leafed birch, Virginia spiraea, and swamp pink.

A 5-year review is based on the best scientific and commercial data available at the time of the review. We are requesting submission of any such information that has become available since the most recent status review for each species.

Why do we conduct 5-year reviews and species status assessments?

Under the ESA, we maintain Lists of Endangered and Threatened Wildlife and Plants (which we collectively refer to as the List) in title 50 of the Code of Federal Regulations at 50 CFR 17.11(h) (for wildlife) and 50 CFR 17.12(h) (for plants). Listed wildlife and plants can also be found at http://ecos.fws.gov/tess_public/pub/listedAnimals.jsp and http://ecos.fws.gov/tess_public/pub/listedPlants.jsp, respectively. Section 4(c)(2)(A) of the ESA requires us to review each listed species' status at least once every 5 years. Our regulations at 50 CFR 424.21 require that we publish a notice in the Federal Register announcing species under active review. For additional information about 5-year reviews, refer to our fact sheet at http://www.fws.gov/endangered/what-we-do/recovery-overview.html.

What species are under review?

We are initiating 5-year status reviews of the species in table 1.

Table 1—Species Under Review
Common name | Scientific name | Status | Where listed | Listing date and citation
Animals
Appalachian monkeyface | Quadrula sparsa | Endangered | Wherever found | 41 FR 24062; 06/14/1976.
Hay's spring amphipod | Stygobromus hayi | Endangered | Wherever found | 47 FR 5425; 02/05/1982.
Atlantic salmon | Salmo salar | Endangered | Gulf of Maine Distinct Population Segment | 74 FR 29344; 06/19/2009.
Diamond darter | Crystallaria cincotta | Endangered | Wherever found | 78 FR 45074: 07/26/2013.
Plants
Virginia round-leaf birch | Betula uber | Threatened | Wherever found | 59 FR 59173; 11/16/1994.
Virginia spiraea | Spiraea virginiana | Threatened | Wherever found | 55 FR 24241; 06/15/1990.
Swamp pink | Helonius bullata | Threatened | Wherever found | 53 FR 35076; 09/09/1988.

What information do we consider in our 5-year reviews and species status assessments?

A 5-year review considers all new information available at the time of the review. In conducting the review, we consider the best scientific and commercial data that have become available since the most recent status review. We are seeking new information specifically regarding:

(1) Species biology, including but not limited to life history and habitat requirements and impact tolerance thresholds;

(2) Historical and current population conditions, including but not limited to population abundance, trends, distribution, demographics, and genetics;

(3) Historical and current habitat conditions, including but not limited to amount, distribution, and suitability;

(4) Historical and current threats, threat trends, and threat projections in relation to the five listing factors (as defined in section 4(a)(1) of the ESA);

(5) Conservation measures for the species that have been implemented or are planned; and

(6) Other new information, data, or corrections, including but not limited to taxonomic or nomenclatural changes, identification of erroneous information contained in the List, and improved analytical methods.

Any new information received will be considered during the 5-year review and will also be useful in evaluating ongoing recovery programs for the species.

Request for New Information

To ensure that 5-year reviews are based on the best available scientific and commercial information, we request new information from all sources. If you submit information, please support it with documentation such as maps, bibliographic references, methods used to gather and analyze the data, and/or copies of any pertinent publications, reports, or letters by knowledgeable sources.

How do I ask questions or provide information?

Please submit your questions, comments, and materials to the appropriate contact in table 2. Individuals who are hearing impaired or speech impaired may call the Federal Relay Service at 800-877-8339 for TTY assistance.

Public Availability of Comments

Before including your address, phone number, electronic mail address, or other personal identifying information in your submission, you should be aware that your entire submission—including your personal identifying information—may be made publicly available at any time. Although you can request that personal information be withheld from public review, we cannot guarantee that we will be able to do so.

Materials received will be available for public inspection, by appointment, during normal business hours at the offices where the information is submitted.

Contacts

New information on the species covered in this notice should be submitted by mail or electronic mail to the appropriate contact person within the timeframe provided in DATES.

Table 2—Contacts
Species | Contact person, phone, email | Contact address
Appalachian monkeyface | Rose Agbalog, 276-623-1233, rose_agbalog@fws.gov | U.S. Fish and Wildlife Service, Southwestern Virginia Field Office, 330 Cummings Street, Abingdon, VA 24210.
Hay's spring amphipod | Julie Thompson, 410-573-4599, julie_thompson@fws.gov | U.S. Fish and Wildlife Service, Chesapeake Bay Field Office, 177 Admiral Cochrane Drive, Annapolis, MD 21401.
Atlantic salmon | Peter Lamothe, 207-902-1556, peter_lamothe@fws.gov | U.S. Fish and Wildlife Service, Maine Field Office, 306 Hatchery Road, East Orland, ME 04431.
Diamond darter | Barbara Douglas, 304-636-6586, extension 19, barbara_douglas@fws.gov | U.S. Fish and Wildlife Service, West Virginia Field Office, 90 Vance Drive, Elkins, WV 26241.
Virginia round-leaf birch | Sumalee Hoskin, 804-693-6694, sumalee_hoskin@fws.gov | U.S. Fish and Wildlife Service, Virginia Field Office, 6669 Short Lane, Gloucester, VA 23061.
Virginia spiraea | Jennifer Stanhope, 804-693-6694, jennifer_stanhope@fws.gov | U.S. Fish and Wildlife Service, Virginia Field Office, 6669 Short Lane, Gloucester, VA 23061.
Swamp pink | Alicia Protus, 609-383-3938, alicia_protus@fws.gov | U.S. Fish and Wildlife Service, New Jersey Field Office, 4 East Jimmie Leeds Road, Suite 4, Galloway, NJ 08205.

Authority

We publish this document under the authority of the Endangered Species Act of 1973, as amended (16 U.S.C. 1531 et seq.).

Wendi Weber,
Regional Director, Northeast Region.

[FR Doc. 2019-19056 Filed 9-3-19; 8:45 am]

BILLING CODE 4333-15-P